DEPARTMENT OF AGRICULTURE

Forest Service

Middle Imnaha River Range Planning Area, Hells Canyon National Recreation Area and Hells Canyon Wilderness, Wallowa-Whitman National Forest, Wallowa and Baker Counties, OR

AGENCY: Forest Service, USDA.

ACTION: Notice of intent to prepare an environmental impact statement.

SUMMARY: The USDA, Forest Service, will prepare an environmental impact statement (EIS) to update range management planning on seventeen (17) livestock (cattle and horse) grazing allotments and one administrative use pasture, which will result in the development of new Allotment Management Plans (AMPs). The allotments are Blackmore, Chalk, College Creek, Dunlap-Thorn, Dunn Creek, Grouseline, Himmelwright, Keeler, Middle Point, Saddle Creek, Schleur, Snell, Mink, Needham, North Pine, Double Pine and Snake River. The administrative use pasture is called College Creek Administrative Horse Pasture. The southern end of the range planning area begins approximately 40 miles north and east of the town of Halfway, Oregon on Pine Ranger District, and continues north into Hells Canyon National Recreation Area (HCNRA), ending approximately 6 miles south of the town of Imnaha, Oregon. The allotments extend east into the Hells Canyon Wilderness and west into the Big Sheep Creek drainage. The allotments, combined, are called the Middle Imnaha River Range Planning Area. National Forest System (NFS) lands within the Wallowa-Whitman National Forests will be considered in the proposal. Management actions are planned to be implemented beginning in the year 2002. The agency gives notice of the full environmental analysis and decision-making process that will occur on the proposal so that interested and affected people may become aware of how they may participate in the process and contribute to the final decision.

DATES: Comments concerning the scope of the analysis should be received in writing by May 31, 2000.

ADDRESSES: Send written comments and suggestions concerning this proposal to Kendall Clark, District Ranger, Hells Canyon National Recreation Area, Wallowa-Whitman National Forest, 88401 Highway 82, Enterprise, Oregon 97828.

FOR FURTHER INFORMATION CONTACT: Direct questions about the proposed action and EIS to Howard Lyman, Project Co-Leader, Hells Canyon National Recreation Area, 88401 Highway 82, Enterprise, Oregon 97828, 541-426-5573 or to Lynne Smith, Project Co-Leader, Pine Ranger District, 38470 Pine Town Lane, Halfway, Oregon 97834, 541-742-6715.

SUPPLEMENTARY INFORMATION: The proposed action is to continue to permit livestock grazing on NFS lands. The proposed action will also incorporate pertinent management guidelines and direction found in the Wallowa-Whitman National Forest Land and Resource Management Plan, as amended, the Hells Canyon National Recreation Area Comprehensive Land Management Plan (CMP), Wild and Scenic River Plans for the Imnaha and Snake Rivers, and biological assessments and biological opinions for threatened Snake River Chinook salmon and steelhead. The proposed action is designed to continue the improving trends in vegetation and watershed conditions relative to livestock grazing within the planning area. The action is needed to develop new AMPs which incorporate results of recent scientific research, analysis and documentation at the sub-basin level. Components of the proposed action include: (1) Protection of Endangered Species Act listed spawning and rearing habitat; (2) provide for sustained forage production through deferment and rest; (3) review utilization standards in riparian areas and analyze potential changes is required stubble heights; and (4) adjust allotment boundaries where the allotment has previously extended into the Wild and Scenic Snake River to outside the Wild and Scenic corridor.

The Wallowa-Whitman Forest Plan, as amended, recognized the continuing need for forage production for the Forest and recognized the seventeen allotments and the administrative pasture of the Middle Imnaha River Range Planning Area as containing lands which are capable and suitable for grazing by domestic livestock. The action is needed to continue this historic use.

The allotments are located within twenty-seven subwatersheds: Freezeout Creek; Imnaha River/mile 24; Squaw Creek; Big Sheep Creek/mile 4; Imnaha River/mile 37; Pumpkin Creek; Summit Creek; Rich Creek; Lower Grouse Creek; Imnaha River/mile 43; Crazyman Creek; Snake River/Rocky Bar; Snake River/Hells Canyon; Lower Little Sheep Creek; Big Sheep Creek/mile 0; Marr Creek; Big Sheep Creek/mile 17; Snake River/Two Bars; Saddle Creek; Lower North Pine Creek; Upper North Pine Creek; Elk Creek; Lake Fork Creek; Imnaha River/mile 55; Imnaha River/mile 58; Snake River/Big Bar; and McGraw Creek. These subwatersheds are contained within the Lower Imnaha River, Upper Imnaha River, Imnaha River, Snake River, Snake River/Hat Point, Big Sheep Creek and Pine Creek watersheds.

The Forest planning process allocated specific management direction across the Wallowa-Whitman National Forest. Within the area encompassed by the seventeen allotments, the management areas (MAs) are MA1—Timber Production Emphasis, MA3—Big game winter range/timber; MA4—Wilderness; MA7—Wild and Scenic River; MA8—HCNRA Snake River corridor; MA9—HCNRA Dispersed Recreation/Native Vegetation, MA10—HCNRA Forage production; MA11—HCNRA Dispersed recreation/timber; MA12—Research Natural Areas, and MA15—Old Growth Preservation.

The seventeen allotments encompass approximately 86,268 acres of NFS Lands, with private land making up an additional 7,603 acres. Approximately 30,695 acres in the Himmelwright, Saddle Creek and Snake River allotments are part of the Hells Canyon Wilderness. Points of interest in the allotments include portions of the Wallowa Loop Road (Forest Road 39); as well as many historic, prehistoric and scenic sites located along the area's extensive trail system. These include Barton Heights, Saulsbery Saddle, Lord Flat, Summit Ridge; Freezeout Saddle; Needham Butte,. and many others.

The Middle Imnaha River Range Planning Area provides habitat for many wildlife species including management indicator species (MIS) and their habitats. These MIS species include California wolverine, North American lynx, Rocky Mountain elk, marten, pileated woodpecker, goshawk, bald eagle and American peregrine falcon. Fish species within the planning area include native populations of inland redband/rainbow trout, bull trout, steelhead and Chinook salmon.

Preliminary issues include: (1) The effects of livestock grazing on riparian conditions (including water quality, water temperature and stream bank stability); (2) The effects of no grazing or reduced grazing on the local economy; (3) The reduction in soil productivity and in amounts of native bunchgrasses due to the encroachment of cheatgrass and sand dropseed species; (4) The effects of livestock grazing on Wild and Scenic River Outstandingly Remarkable Values and Wilderness values, (5) the effects of livestock grazing on TES species and (6) the effects of livestock grazing on big game winter range.

A detailed public involvement plan has been developed, and an interdisciplinary team has been selected to do the environmental analysis, prepare and accomplish scoping, and accomplish public involvement activities.

The proposed action is intended to provide the analysis needed to prepare new AMPs that meet all the Forest Plan amended requirements of Interim Strategies for Managing Pacific Anadromous Fish-producing Watersheds in Eastern Oregon and Washington, Idaho, and portions of California (PACFISH), Inland Native Strategies for Managing Fish-producing Watersheds in Eastern Oregon and Washington, Idaho, Western Montana, and Portions of Nevada (INFISH), Wild and Scenic River Plans, and are consistent with the scientific findings of the Interior Columbia Basin Ecosystem Management Program (ICBEMP). Consultation with the U.S. Fish and Wildlife Service, as required by the Endangered Species Act (ESA), will be completed on all proposed activities.

Public involvement will be especially important at several points during the analysis, beginning with the scoping process. The Forest Service will be consulting with Tribes and seeking information, comments, and assistance from Federal, State, local agencies, current range permittees, and other individuals or organizations who may be interested in or affected by the proposals. The scoping process includes:

1. Identifying and clarifying issues.

2. Identifying key issues to be analyzed in depth.

3. Exploring alternatives based on themes which will be derived from issues recognized during scoping activities.

4. Identifying potential environmental effects of the proposals and alternatives (i.e., direct, indirect, and cumulative effects and connected actions).

5. Determining potential cooperating agencies and task assignments.

6. Developing a list of interested people to keep apprised of opportunities to participate through meetings, personal contacts, or written comments.

7. Developing a means of informing the public through the media and/or written material (e.g., newsletters, correspondence, etc.).

Public comments are appreciated throughout the analysis process. The draft EIS is expected to be filed with the Environmental Protection Agency (EPA) and be available for public review by March, 2001. The comment period on the draft EIS will be 45 days from the date the EPA publishes the notice of availability in the Federal Register. The final EIS is scheduled to be available October, 2001.

Comments received in response to this notice, including names and addresses of those who comment, will be considered part of the public record on this proposed action and will be available for public inspection. Comments submitted anonymously will be accepted and considered, however, those who submit anonymous comments will not have standing to appeal the subsequent decision under 36 CFR Parts 215. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

The Forest Service believes it is important to give reviewers notice of this early stage of public participation and of several court rulings related to public participation in the environmental review process. First, reviewers of a draft EIS must structure their participation in the environmental review of the proposal so that it is meaningful and alerts an agency to the reviewer's position and contentions. Vermont Yankee Nuclear Power Corp. v. NRDC,, 435 U.S. 519, 553 (1978). Also, environmental objections that could have been raised at the draft stage may be waived or dismissed by the court if not raised until after completion of the final EIS. City of Angoon v. Hodel, 803 f.2d 1016, 1022 (9th Cir, 1986) and Wisconsin Heritages, Inc v. Harris, 490 F. Supp. 1334, 1338 (E.D. Wis. 1980). Because of these court rulings, it is very important that those interested in this proposed action participate by the close of the 45-day comment period so substantive comments and objections are made available to the Forest Service at a time when it can meaningfully consider and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. (Reviewers may wish to refer to the Council on Environmental Quality Regulations for implementing the procedural provisions of the National Environmental Policy Act at 40 CFR 1503.3 in addressing these points.)

In the final EIS, the Forest Service is required to respond to substantive comments and responses received during the comment period that pertain to the environmental consequences discussed in the draft EIS and applicable laws, regulations, and policies considered in making a decision regarding the proposal. The Forest Service is the lead Agency. Karyn L. Wood, Forest Supervisor, is the Responsible Official. As the Responsible Official she will document the decision and rationale for the decision in the Record of Decision. That decision will be subject to Forest Service Appeal Regulations (36 CFR part 215).

Dated: March 31, 2000.
Karyn L. Wood,
Forest Supervisor.

[FR Doc. 00-8622 Filed 4-6-00; 8:45 am]

BILLING CODE 3410-11-M